DEPARTMENT OF DEFENSE

Department of the Army

[Docket ID: USA-2008-0037]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0190-5 DAMO

System name:

Vehicle Registration System (VRS) (February 22, 1993, 58 FR 10002).

Changes:

Change System Identifier to “A0190-5 OPMG.”

* * * * *

Storage:

Delete entry and replace with “Paper records in file folders and electronic storage media.”

* * * * *

System Manager:

Delete entry and replace with “Deputy Chief of Staff for Personnel, ATTN: OPMG-ODL, Headquarters, Department of the Army, Washington, DC 20310-0440.”

* * * * *

A0190-5 OPMG

System name:

Vehicle Registration System.

System location:

Decentralized to Army installation which created the vehicle registration/driver record. A cross-reference index in either manual or automated media may exist at intermediate and higher command levels. In addition, information is stored on computer media at the four Army Information Processing Centers located at: Chambersburg, PA 17201-4150; Huntsville, AL 35898-7340; Rock Island, IL 61299-7210; and, St. Louis, MO 63120-1798.

Categories of individuals covered by the system:

Military personnel (active, reserve, retired), civilian employees, contractor personnel, vendors, visitors.

Categories of records in the system:

Information contained on the DA Form 3626 may be provided by paper record, the automated VRS, or the automated Vehicle Registration System/Installation Support Module (VRS/ISM). Information entered into the VRS or VRS/ISM from the DA Form 3626 is used to create a master edit file and master registration file.

Authority for maintenance of the system:

5 U.S.C. 301, Departmental Regulations; 10 U.S.C. 3013; Status of Forces Agreement between the United States of America and the host country in which U.S. Forces are located and E.O. 9397 (SSN).

Purpose(s):

To assist the commander in carrying out effective law enforcement, traffic safety, and crime prevention programs; to ensure compliance with Highway Safety Program Standards (23 U.S.C. 402) applicable to federally administered areas; to provide management data on which to base crime prevention, selective enforcement, and improved driving safety.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information in this system may be disclosed to state law enforcement and motor vehicle departments for ascertaining or disclosing driver information and/or accident reports, and, in overseas areas, to the host country as required by the Status of Forces Agreement between the United States of America and the host country.

The ‘Blanket Routine Uses’ set forth at the beginning of the Army's compilation of systems of records notices also apply to this system.

Policies and practices for storing, retrieving, accessing, retaining, and disposing of records in the system:

Storage:

Paper records in file folders and electronic storage media.

Retrievability:

By surname/Social Security Number.

Safeguards:

Information is stored in locked containers or storage areas within buildings which are secured, and the system is accessed by designated persons having an official need for the information.

Regional Data Centers are contractor-operated under an Army approved security program. Contractor personnel participate in a security education program under the Regional Data Security Officer. Regional Data Centers are connected through a communications network to data processing centers at Army installations. Technical, physical, and administrative safeguards required by Army Regulation 380-19, Information Systems Security, are enforced at the installation data processing centers. Data are available only to installation personnel responsible for system operation and maintenance. Terminals not in the data processing center are under the supervision of a terminal area security office at each remote location protecting these terminals from unauthorized use. Access to information is also controlled by a system of assigned passwords for authorized users of terminals.

Retention and disposal:

Destroyed on transfer or separation of parking permit holder, or when permit is superseded or revoked, whichever occurs first. Traffic law enforcement records are destroyed 2 years after closing of the case.

System manager(s) and address:

Deputy Chief of Staff for Personnel, ATTN: OPMG-ODL, Headquarters, Department of the Army, Washington, DC 20310-0440.

Notification procedure:

Individuals seeking to determine whether information about themselves is contained in this system should address written inquiries to the Provost Marshal at the installation where vehicle registration or accident occurred.

Individual should provide the full name, Social Security Number, current address, and other information verifiable from the record itself.

Record access procedures:

Individuals seeking access to information about themselves contained in this system should address written inquiries to the Provost Marshal at the installation where vehicle registration or accident occurred.

Individual should provide the full name, Social Security Number, current address, and other information verifiable from the record itself.

Contesting record procedures:

The Army's rules for accessing records, and for contesting contents and appealing initial agency determinations are contained in Army Regulation 340-21; 32 CFR part 505; or may be obtained from the system manager.

Record source categories:

From the individual, participants in car pools, military or civilian police reports, investigative and law enforcement agencies, third parties who provide relevant information.

Exemptions claimed for the system:

Parts of this system may be exempt under 5 U.S.C. 552a(j)(2), as applicable.

An exemption rule for this system has been promulgated in accordance with requirements of 5 U.S.C. 553(b)(1), (2), and (3), (c) and (e) and published in 32 CFR part 505. For additional information contact the system manager.

[FR Doc. E8-17019 Filed 7-24-08; 8:45 am]

BILLING CODE 5001-06-P